ENVIRONMENTAL PROTECTION AGENCY

[ER-FRL-6628-6]

Environmental Impact Statements; Notice of Availability

Responsible Agency: Office of Federal Activities, General Information (202) 564-7167 or www.epa.gov/oeca/ofa.

Weekly receipt of Environmental Impact Statements

Filed April 15, 2002, through April 19, 2002

Pursuant to 40 CFR 1506.9.

EIS No. 020146, FINAL EIS, BLM, UT, 3R Minerals Coal Bed Canyon Mine Plan, Approval, Grand Staircase-Escalante National Monument, Garfield County, UT, Wait Period Ends: May 28, 2002, Contact: Paul Chapman (435) 644-4309.

EIS No. 020147, FINAL EIS, FHW, WI, US-14/61 Westby—Virogua Bypass Corridor Study, Transportation Improvements, Funding and COE Section 404 Permit, Cities of Virogua and Westby, Vernon County, WI, Wait Period Ends: May 28, 2002, Contact: Eugene Hoelker (608) 829-7512.

EIS No. 020148, DRAFT EIS, NPS, WV, National Coal Heritage Area, Strategic Management Action Plan, Implementation, Boone, Cabell, Fayette, Logan, McDowell, Mercer, Mingo, Raleigh, Summers, Wayne and Wyoming Counties, WV, Comment Period Ends: June 16, 2002, Contact: Peter Samuel (215) 597-1848.

EIS No. 020149, FINAL EIS, NRS, OK, Lower Clear Boggy Creek Watershed Project, Floodwater Retarding Structure (FWRS) Site 32B Construction, Atoka County, OK, Wait Period Ends: May 28, 2002, Contact: M.. Darrel Dominick (405) 742-1227.

EIS No. 020150, FINAL EIS, COE, NB, Platte West Water Production Facilities, Proposed New Drinking Water Production Facilities, Metropolitan Utilities District, Omaha District, Douglas, Saunders and Sarpy Counties, NB, Wait Period Ends: May 28, 2002, Contact: Rebecca Latka (402) 221-4602.

EIS No. 020151, FINAL EIS, FHW, PA, NY, US Route 15 Improvement Project, from PA-6015, Section G-20 and G-22 Tioga County, Pennsylvania and PIN 6008.22.123 Steuben County, New York, (US Route 15 between PA Route 287 and Presho, New York), Funding and COE Section 404 Permit, Tioga County, PA and Steuben County, NY, Wait Period Ends: May 28, 2002, Contact: James A. Cheatham (717) 221-3461.

EIS No. 020152, DRAFT EIS, NRC, VA, GENERIC EIS—Surry Power Station, Unit 1 and 2, Supplement 6 to NUREG-1437, License Renewal of Nuclear Plants, COE Section 404 Permit and NPDES Permit, James River, VA, Comment Period Ends: July 12, 2002, Contact: Andrew Kugler (301) 415-2828.

EIS No. 020153, DRAFT EIS, COE, KS, Tuttle Creek Dam Safety Assurance Program, To Assess Dam Safety and Performance, Big Blue River, Riley and Potawatomie Counties, KS, Comment Period Ends: June 10, 2002, Contact: William B. Empson (816) 983-3556. This document is available on the Internet at: http://www.nwk.usace.army.mil/tcdam.

EIS No. 020154, DRAFT EIS, NPS, NV, AZ, Lake Mead National Recreation Area, Long-Term Management of Lake Mead and Mohave and Associated Shoreline and Development Area, Lake Management Plan, Clark County, NV and Mohave County, AZ, Comment Period Ends: June 25, 2002, Contact: Jim Holland (702) 293-8986. This document is available on the Internet at: www.nps.gov/lame/lmpdraft/home.htm

EIS No. 020155, FINAL EIS, MMS, AL, MS, TX, WA, AL, FL, LA, CA, OR, Outer Continental Shelf Oil and Gas Leasing Program: From Mid-2002 Through Mid-2007, 5-Year Schedule Leasing Program for 20 Sales in 8 of the Outer Continental Shelf Planning Areas, AL, AK, CA, FL, LA, MS, OR, TX and WA, Wait Period Ends: May 28, 2002, Contact: Richard Wilderman (703) 787-1670.

EIS No. 020156, FINAL EIS, BLM, NV, Newmont Gold Mining, South Operations Area Project Amendment, Operation and Expansion, Plan of Operations, Elko and Eureka Counties, NV, Wait Period Ends: May 28, 2002, Contact: Roger Congdon (775) 753-0200.

EIS No. 020157, FINAL SUPPLEMENT, MMS, ID, Smoky Canyon Mine Panels B and C, Propose to Mine Phosphate Ore Reserves in the Final Two Mine Panels, National Forest Systems Lands and Federal Mineral Leases, Caribou National Forest, Permit, Caribou County, ID, Wait Period Ends: May 28, 2002, Contact: Jeffrey Cundick (208) 478-6354.

Amended Notices

EIS No. 020039, DRAFT EIS, JUS, CA, 14-Mile Border Infrastructure System Completion along the United States and Mexico Border, Areas I, V and VI, Pacific Ocean to just east of Tin Can Hill, San Diego County, CA, Comment Period Ends: May 02, 2002, Contact: Russell R. D'Hondt (202) 305-4386. Revision of FR Notice Published on 02/01/2002: CEQ Comment Period Ending 04/01/2002 has been extended to 05/02/2002.

EIS No. 020080, DRAFT EIS, COE, ND, Devils Lake Basin North Dakota Study, The Reduction of Flood Damages Related to the Rising Lake Levels and the Flood-Prone Areas Around Devils Lake and to Reduce the Potential for Natural Overflow Event, Sheyenne River and Red River of the North, ND, Comment Period Ends: May 07, 2002, Contact: David Loss (651) 290-5435. Revision of FR Notice Published on 03/08/2002: CEQ Review Period Ending on 04/22/2002 has been Extended to 05/07/2002.

EIS No. 020125, FINAL EIS, FTA, MN, Northstar Transportation Corridor Improvement Project, Downtown Minneapolis to the St. Cloud Area along Trunk Highway 10/47 and the Burlington Northern Santa Fe Railroad Transcontinental Route connecting Hiawatha Light Rail Transit Line at a Multi-Modal Station, Minneapolis/St Paul International Airport and Mall of America, Bloomington, MN, Wait Period Ends: May 06, 2002, Contact: Joel Ettinger (312) 353-2865. Revision of FR Notice Published on 04/19/2002: Correction to Title.

EIS No. 020129, DRAFT EIS, BLM, OR, Kelsey Whisky Landscape Management Planning Area, Implementation, Associated Medford District Resource Management Plan Amendments, Josephine and Jackson Counties, OR, Comment Period Ends: July 12, 2002, Contact: Sherwood Tubman (541) 618-2399. Revision of FR notice published on 04/19/2002: Correction to County Joseph to Josephine County.

Dated: April 23, 2002.
B. Katherine Biggs,
Associate Director, NEPA Compliance Division, Office of Federal Activities.

[FR Doc. 02-10343 Filed 4-25-02; 8:45 am]

BILLING CODE 6560-50-P